ENVIRONMENTAL PROTECTION AGENCY

40 CFR Part 52

[EPA-R05-OAR-2009-0695; FRL-9689-8]

Approval and Promulgation of Implementation Plans; Wisconsin; Volatile Organic Compound Emission Control Measures for Milwaukee and Sheboygan Ozone Nonattainment Areas

AGENCY: Environmental Protection Agency (EPA).

ACTION: Final rule.

SUMMARY: EPA is approving, under the Clean Air Act (the Act), revisions to the Wisconsin State Implementation Plan (SIP) submitted on September 1, 2009, November 16, 2011, and January 26, 2012. The purpose of these revisions is to satisfy the Act's requirement that states revise their SIPs to include Reasonably Available Control Technology (RACT) for sources of Volatile Organic Compound (VOC) emissions in moderate ozone nonattainment areas. Wisconsin's VOC rules provide RACT requirements for the Milwaukee-Racine and Sheboygan 1997 8-hour ozone nonattainment areas. These rules are approvable because they are consistent with the Control Technique Guideline (CTG) documents issued by EPA in 2006 and 2007 and satisfy the RACT requirements of the Act. EPA proposed this rule for approval on February 22, 2012, and received no comments.

DATES: This final rule is effective on September 6, 2012.

ADDRESSES: EPA has established a docket for this action under Docket ID EPA-R05-OAR-2009-0695. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Attainment Planning and Maintenance Section, Air Programs Branch (AR-18J), Environmental Protection Agency, Region 5, 77 West Jackson Boulevard, Chicago, Illinois 60604, (312) 886-6052.

SUPPLEMENTARY INFORMATION: Throughout this document whenever “we,” “us,” or “our” is used, we mean EPA. This supplementary information section is arranged as follows:

I. What public comments were received on the proposed approval?

II. What action is EPA taking today and what is the basis of this action?

III. Statutory and Executive Order Reviews

I. What public comments were received on the proposed approval?

EPA proposed this rule for approval on February 22, 2012, and received no comments.

II. What action is EPA taking today and what is the basis of this action?

EPA is taking final action to approve into Wisconsin's SIP VOC RACT rules for the Milwaukee-Racine and Sheboygan 1997 8-hour ozone nonattainment areas that were submitted on September 1, 2009, November 16, 2011, and January 26, 2012. The purpose of these rules is to satisfy the Act's requirement that states revise their SIPs to include RACT for sources of VOC emissions in moderate ozone nonattainment areas. Wisconsin's VOC rules provide RACT requirements for the Milwaukee-Racine and Sheboygan 1997 8-hour ozone nonattainment areas. These rules are approvable because they are consistent with the CTG documents issued by EPA in 2006 and 2007 and satisfy the RACT requirements of the Act.

III. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by October 9, 2012. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: June 11, 2012.
Susan Hedman,
Regional Administrator, Region 5.

Therefore, 40 CFR part 52 is amended as follows:

PART 52—[AMENDED]

1. The authority citation for part 52 continues to read as follows:

Authority: 42 U.S.C. 7401 et seq.

2. Section 52.2570 is amended by revising paragraph (c)(123) to read as follows:

§ 52.2570 Identification of plan.

* * * * *

(c) * * *

(123) On September 1, 2009, November 16, 2011, and January 26, 2012, the Wisconsin Department of Natural Resources submitted new and revised rules to be incorporated into its SIP. Wisconsin revised it Volatile Organic Compound (VOC) rules to satisfy the Clean Air Act's (Act) requirement that states revise their SIPs to include Reasonably Available Control Technology (RACT) for sources of VOC emissions in moderate ozone nonattainment areas. Wisconsin's VOC rules provide RACT requirements for the Milwaukee-Racine and Sheboygan 1997 8-hour ozone nonattainment areas.

(i) Incorporation by reference. The following sections of the Wisconsin Administrative Code are incorporated by reference:

(A) NR 400.02 Definitions. NR 400.02(26m), (54m), (85m), (93m), (107m), (133e), (133m), and (133s), as published in the Wisconsin Administrative Register January 2012, No. 673, effective February 1, 2012.

(B) NR 419.02 Definitions. NR 419.02(8m) and (14r), as published in the Wisconsin Administrative Register July 2009, No. 643, effective August 1, 2009.

(C) NR 419.02 Definitions. NR 419.02(1e), (1m), (1s), (3e), (3m), (3s), (6m), (7m), (8e), (10g), (10r), (11m), (12m), (14b), (14e), (14h), (14L), (14p), (14u), (14y), (15d), (15h), (15p), (15t), (16m), (18e), (18m), (18s), (22), and (23), as published in the Wisconsin Administrative Register January 2012, No. 673, effective February 1, 2012.

(D) NR 419.045 Industrial wastewater operations, as published in the Wisconsin Administrative Register January 2012, No. 673, effective February 1, 2012.

(E) NR 420.02 Definitions. NR 420.02(31), as published in the Wisconsin Administrative Register January 2012, No. 673, effective February 1, 2012.

(F) NR 421.02 Definitions. NR 421.02(18m) and (23), as published in the Wisconsin Administrative Register January 2012, No. 673, effective February 1, 2012.

(G) NR 421.05 Synthetic resin manufacturing. NR 421.05(1)(a), (1)(b)(intro.), (1)(c), (2m), (3)(a)(intro.), (3)(c), and (4), as published in the Wisconsin Administrative Register January 2012, No. 673, effective February 1, 2012.

(H) NR 421.06 Coatings manufacturing. NR 421.06(1)(a), (1)(b)(intro.), (1)(c), (2m), (3)(a)(intro.), (3)(c), and (4), as published in the Wisconsin Administrative Register January 2012, No. 673, effective February 1, 2012.

(I) NR 421.07 Synthetic organic chemical manufacturing industry. NR 421.07(1)(b), (2), (3), (4), and (6), as published in the Wisconsin Administrative Register July 2009, No. 643, effective August 1, 2009.

(J) NR 421.07 Synthetic organic chemical manufacturing industry. NR 421.07(1)(a), (3)(a)5, (4)(a)5, and (5), as published in the Wisconsin Administrative Register January 2012, No. 673, effective February 1, 2012.

(K) NR 422.02 Definitions. NR 422.02(12s), (13), (21g), (26m), (37m), (40m), (53i), (54s), (57m), (77), (80m), (87v), (87x), (90m), (102), and (107m), as published in the Wisconsin Administrative Register July 2009, No. 643, effective August 1, 2009.

(L) NR 422.02 Definitions. NR 422.02 (12), (34g), (34r), (83), and (90r), as published in the Wisconsin Administrative Register January 2012, No. 673, effective February 1, 2012.

(M) NR 422.03 Exemptions. NR 422.03 (1) and (3), as published in the Wisconsin Administrative Register January 2012, No. 673, effective February 1, 2012.

(N) NR 422.05 Can coating. NR 422.05(1), (1m), (3), and (4), as published in the Wisconsin Administrative Register January 2012, No. 673, effective February 1, 2012.

(O) NR 422.06 Coil coating. NR 422.06(1), (1m), (3), and (4), as published in the Wisconsin Administrative Register January 2012, No. 673, effective February 1, 2012.

(P) NR 422.07 Paper coating—part 1. NR 422.07 (title), as published in the Wisconsin Administrative Register July 2009, No. 643, effective August 1, 2009.

(Q) NR 422.075 Paper coating—part 2. NR 422.075(1), (2), (3)(intro.), (3)(a), (3)(c), (3)(d), (3)(e), and (3)(f), as published in the Wisconsin Administrative Register July 2009, No. 643, effective August 1, 2009.

(R) NR 422.075 Paper coating—part 2. NR 422.075(3)(b), as published in the Wisconsin Administrative Register January 2012, No. 673, effective February 1, 2012.

(S) NR 422.08 Fabric and vinyl coating. NR 422.08(1), (1m), (3), and (4), as published in the Wisconsin Administrative Register January 2012, No. 673, effective February 1, 2012.

(T) NR 422.083 Plastic parts coating. NR 422.083(1)(a), (1)(b), (1)(bm), (3) including Table 1B (title), and (3m), as published in the Wisconsin Administrative Register January 2012, No. 673, effective February 1, 2012.

(U) NR 422.085 Leather coating. NR 422.085(1), as published in the Wisconsin Administrative Register January 2012, No. 673, effective February 1, 2012.

(V) NR 422.09 Automobile and light-duty truck manufacturing. NR 422.09(1) and (6), as published in the Wisconsin Administrative Register January 2012, No. 673, effective February 1, 2012.

(W) NR 422.095 Automobile refinishing operations. NR 422.095(1), (2)(a), (2)(c), (2)(d), (2)(e), (2)(f), (2)(g), (2)(h), (2)(i), (7), and (8), as published in the Wisconsin Administrative Register January 2012, No. 673, effective February 1, 2012.

(X) NR 422.10 Furniture metal coating—part 1. NR 422.10 (title), as published in the Wisconsin Administrative Register July 2009, No. 643, effective August 1, 2009.

(Y) NR 422.105 Furniture metal coating—part 2. NR 422.105(1), (2), (3), (4), (5)(intro.), (5)(a), (5)(c), (5)(d), (5)(e), and (5)(f), as published in the Wisconsin Administrative Register July 2009, No. 643, effective August 1, 2009.

(Z) NR 422.105 Furniture metal coating—part 2. NR 422.105(5)(b), as published in the Wisconsin Administrative Register January 2012, No. 673, effective February 1, 2012.

(AA) NR 422.11 Surface coating of large appliances—part 1. NR 422.11 (title), as published in the Wisconsin Administrative Register July 2009, No. 643, effective August 1, 2009.

(BB) NR 422.115 Surface coating of large appliance—part 2. NR 422.115(1), (2), (3), (4), (5)(intro.), (5)(a), (5)(c), (5)(d), (5)(e), and (5)(f), as published in the Wisconsin Administrative Register July 2009, No. 643, effective August 1, 2009.

(CC) NR 422.115 Surface coating of large appliance—part 2. NR 422.115 (5)(b), as published in the Wisconsin Administrative Register January 2012, No. 673, effective February 1, 2012.

(DD) NR 422.125 Wood furniture coating. NR 422.125(1) and (4m), as published in the Wisconsin Administrative Register January 2012, No. 673, effective February 1, 2012.

(EE) NR 422.127 Use of adhesives. NR 422.127(2), (3m), (4)(a)(intro.), and (4)(b), as published in the Wisconsin Administrative Register January 2012, No. 673, effective February 1, 2012.

(FF) NR 422.13 Flat wood panel coating—part 1. NR 422.13 (title), as published in the Wisconsin Administrative Register July 2009, No. 643, effective August 1, 2009.

(GG) NR 422.131 Flat wood panel coating—part 2, as published in the Wisconsin Administrative Register July 2009, No. 643, effective August 1, 2009.

(HH) NR 422.132 Wood door coating. NR 422.132(1), as published in the Wisconsin Administrative Register January 2012, No. 673, effective February 1, 2012.

(II) NR 422.135 Molded wood parts or products. NR 422.135(1), as published in the Wisconsin Administrative Register January 2012, No. 673, effective February 1, 2012.

(JJ) NR 422.14 Graphic arts. NR 422.14(1), (1m), (4), and (5), as published in the Wisconsin Administrative Register January 2012, No. 673, effective February 1, 2012.

(KK) NR 422.141 Flexible package printing, as published in the Wisconsin Administrative Register July 2009, No. 643, effective August 1, 2009.

(LL) NR 422.142 Lithographic printing—part 1. NR 422.142 (title) and (1m), as published in the Wisconsin Administrative Register July 2009, No. 643, effective August 1, 2009.

(MM) NR 422.142 Lithographic printing—part 1. NR 422.142(5)(d), as published in the Wisconsin Administrative Register January 2012, No. 673, effective February 1, 2012.

(NN) NR 422.143 Lithographic printing—part 2. NR 422.143(1), (1m), (2), (3a), (3b), (4), (5), (6)(intro.), (6a), (6b), (6c), (6e), (7), and (8), as published in the Wisconsin Administrative Register July 2009, No. 643, effective August 1, 2009.

(OO) NR 422.143 Lithographic printing—part 2. NR 422.143(3)(c) and (6)(d), as published in the Wisconsin Administrative Register January 2012, No. 673, effective February 1, 2012.

(PP) NR 422.144 Letterpress printing, as published in the Wisconsin Administrative Register January 2012, No. 673, effective February 1, 2012.

(QQ) NR 422.145 Screen printing. NR 422.145(1), (1m), (2m), and (4), as published in the Wisconsin Administrative Register January 2012, No. 673, effective February 1, 2012.

(RR) NR 422.15 Miscellaneous metal parts and products. NR 422.15(1) and (9), as published in the Wisconsin Administrative Register January 2012, No. 673, effective February 1, 2012.

(SS) NR 422.155 Fire truck and emergency response vehicle manufacturing. NR 422.155(1) and (5), as published in the Wisconsin Administrative Register January 2012, No. 673, effective February 1, 2012.

(TT) NR 423.02 Definitions. NR 423.02(5m) and (9t), as published in the Wisconsin Administrative Register July 2009, No. 643, effective August 1, 2009.

(UU) NR 423.035 Industrial cleaning operations—part 1. NR 423.035 (title), (1), (2)(intro.), (2)(b)(intro.), (2)(b)4, (2)(e), (2)(g), (3)(intro.), (6)(a), (6)(b), and (9)(a), as published in the Wisconsin Administrative Register July 2009, No. 643, effective August 1, 2009.

(VV) NR 423.035 Industrial cleaning operations—part 1. NR 423.035(2)(a)1, (2)(h), (4)(intro.), and (4)(a), as published in the Wisconsin Administrative Register January 2012, No. 673, effective February 1, 2012.

(WW) NR 423.037 Industrial cleaning operations—part 2, as published in the Wisconsin Administrative Register January 2012, No. 673, effective February 1, 2012.

(XX) NR 439.04 Recordkeeping. NR 439.04(4)(intro), (4)(d), (4)(f), (4)(g), and (6), as published in the Wisconsin Administrative Register January 2012, No. 673, effective February 1, 2012.

(YY) NR 439.06 Methods and procedures for determining compliance with emission limitations (by air contaminant). NR 439.06 (3)(j), as published in the Wisconsin Administrative Register July 2009, No. 643, effective August 1, 2009.

(ZZ) NR 439.06 Methods and procedures for determining compliance with emission limitations (by air contaminant). NR 439.06(3)(b), as published in the Wisconsin Administrative Register January 2012, No. 673, effective February 1, 2012.

(AAA) NR 439.075 Periodic compliance emission testing requirements. NR 439.075(2)(c) 3. j., as published in the Wisconsin Administrative Register July 2009, No. 643, effective August 1, 2009.

(ii) Additional material.

(A) NR 484.04 Code of federal regulations appendices. NR 484.04 (intro.), (13), (17), (19), (20), (20e), (25), and (27s), as published in the Wisconsin Administrative Register January 2012, No. 673, effective February 1, 2012.

(B) NR 484.04 Code of federal regulations appendices. NR 484.04(16), as published in the Wisconsin Administrative Register July 2009, No. 643, effective August 1, 2009.

(C) NR 484.05 National technical information service. NR 484.05(1), as published in the Wisconsin Administrative Register January 2012, No. 673, effective February 1, 2012.

(D) NR 484.06 Other government organizations. NR 484.06(4)(Note), (4)(e), (4)(f), and (4)(g), as published in the Wisconsin Administrative Register January 2012, No. 673, effective February 1, 2012.

(E) NR 484.10 American Society for Testing and Materials. NR 484.10(9), (12), (14), (21), (32), (36), and (56), as published in the Wisconsin Administrative Register July 2009, No. 643, effective August 1, 2009.

(F) NR 484.10 American Society for Testing and Materials. NR 484.10(6), (39m), (55b), (55bg), and (55br), as published in the Wisconsin Administrative Register January 2012, No. 673, effective February 1, 2012.

(G) NR 484.11 Other private organizations. NR 484.11(4), as published in the Wisconsin Administrative Register July 2009, No. 643, effective August 1, 2009.

(H) NR 484.11 Other private organizations. NR 484.11(5)(Table 6E) and (12), as published in the Wisconsin Administrative Register January 2012, No. 673, effective February 1, 2012.

* * * * *

[FR Doc. 2012-19133 Filed 8-6-12; 8:45 am]

BILLING CODE 6560-50-P